DEPARTMENT OF ENERGY

Federal Energy Regulatory Commission

[Project No. 2853-073]

Montana Department of Natural Resources and Conservation; Notice of Availability of Final Environmental Assessment

In accordance with the National Environmental Policy Act of 1969 and the Federal Energy Regulatory Commission's (Commission) regulations, 18 CFR part 380, the Office of Energy Projects has reviewed the application for a new license to continue to operate and maintain the Broadwater Hydroelectric Project, located on the Missouri River in Broadwater County, Montana and has prepared a Final Environmental Assessment (FEA) for the project. The project is adjacent to and includes federal lands administered by the Bureau of Land Management.

The FEA contains staff's analysis of the potential environmental impacts of the project and concludes that licensing the project, with appropriate environmental protective measures, would not constitute a major federal action that would significantly affect the quality of the human environment.

The Commission provides all interested persons with an opportunity to view and/or print the FEA via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/eSubscription.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Any questions regarding this notice may be directed to Ingrid Brofman at (202) 502-8347 or Ingrid.brofman@ferc.gov.

Dated: August 30, 2024.
Debbie-Anne A. Reese,
Acting Secretary.

[FR Doc. 2024-20145 Filed 9-5-24; 8:45 am]

BILLING CODE 6717-01-P